FEDERAL COMMUNICATIONS COMMISSION

47 CFR Part 73

[DA 00-2483; MM Docket No. 99-282; RM-9710]

Radio Broadcasting Services; Littlefield, AZ

AGENCY: Federal Communications Commission.

ACTION: Final rule; petition for reconsideration.

SUMMARY: This document dismisses a Petition for Reconsideration filed on behalf of Mountain West Broadcasting directed to the Report and Order in this proceeding, which denied the requested allotment of Channel 265C to Littlefield, Arizona, for failure to demonstrate that Littlefield qualifies as a community for allotment purposes. See 65 FR 25463, May 2, 2000. The petition for reconsideration is dismissed as it does not meet the limited provisions set forth in the Commission's Rules under which a rule making action will be reconsidered. With this action, this docketed proceeding is terminated.

FOR FURTHER INFORMATION CONTACT: Nancy Joyner, Mass Media Bureau, (202) 418-2180.

SUPPLEMENTARY INFORMATION: This is a summary of the Commission's Memorandum Opinion and Order, in MM Docket No. 99-282, adopted October 25, 2000, and released November 3, 2000. The full text of this Commission decision is available for inspection and copying during normal business hours in the FCC Reference Information Center (Room CY-A257), 445 Twelfth Street, SW., Washington, DC. The complete text of this decision may also be purchased from the Commission's copy contractor, International Transcription Service, Inc., 1231 20th Street, NW., Washington, DC 20036, (202) 857-3800.

Federal Communications Commission.
John A. Karousos,
Chief, Allocations Branch, Policy and Rules Division, Mass Media Bureau.

[FR Doc. 00-29625 Filed 11-17-00; 8:45 am]

BILLING CODE 6712-01-U